DEPARTMENT OF HEALTH AND HUMAN SERVICES

Substance Abuse and Mental Health Services Administration

Fiscal Year (FY) 2008 Funding Opportunity

AGENCY: Substance Abuse and Mental Health Services Administration, HHS.

ACTION: Notice of intent to award a Single Source Grant to the National Association of State Alcohol and Drug Abuse Directors (NASADAD).

SUMMARY: This notice is to inform the public that the Substance Abuse and Mental Health Services Administration (SAMHSA) intends to award approximately $600,000 (total costs) per year for up to three years to the National Association of State Alcohol and Drug Abuse Directors (NASADAD). This is not a formal request for applications. Assistance will be provided only to the National Association of State Alcohol and Drug Abuse Directors (NASADAD) based on the receipt of a satisfactory application that is approved by an independent review group.

Funding Opportunity Title: TI-08-002.

Catalog of Federal Domestic Assistance (CFDA) Number: 93.243.

Authority: Section 1935 of the Public Health Service Act, as amended.

Justification: Only the National Association of State Alcohol and Drug Abuse Directors (NASADAD) is eligible to apply. The Substance Abuse and Mental Health Services Administration (SAMHSA) is seeking to award a single source grant to the National Association of State Alcohol and Drug Abuse Directors (NASADAD) to facilitate collaborative activities between SAMHSA and the States to assist SAMHSA in its development and implementation of the National Outcome Measures (NOMs).

NASADAD's membership is composed of the State substance abuse authorities (SSAs). SSAs are the recipients of SAMHSA's Substance Abuse Prevention and Treatment (SAPT) Block Grant funds. Grant activities will focus on areas of mutual interest and will help support the States' ability to respond to changes brought about by the transition of management of the SAPT Block Grant to a performance and outcomes focus based upon the NOMs and other information. These collaborative activities will assist SAMHSA in its development, implementation and management of the SAPT Block Grant Program, and will assist States in the development and implementation of their transition plans and to respond to the changes brought about by the transition.

NASADAD is in the unique position to facilitate these activities because:

• NASADAD is the sole and unique organization with a direct official relationship with the SSAs. SSAs, which form the membership of NASADAD, are the only entities that may directly apply for and administer SAMHSA's SAPT Block Grant funds.

• The activities required under this grant program will require NASADAD and its members (SSAs) to provide the necessary State perspective regarding needs and potential changes to the State substance abuse treatment system practices and to their information system's infrastructure.

• NASADAD is the sole organization that has been utilizing, in support of CSAT, a Web-based process to facilitate SSA dialogue on NOMs.

• NASADAD's constituency and staff are a repository of knowledge on State issues related to substance abuse treatment indicators and are accountable for performance in the SAPT Block Grant. This knowledge is critical to the grant project.

• NASADAD has a Data Subcommittee that is essential to the required grant activities. In addition, NASADAD is uniquely qualified to conduct the required activities because of its relationship with the SSAs and its history of collaboration with the Federal government and other organizations that represent issues of importance to State government.

Contact: Shelly Hara, Substance Abuse and Mental Health Services Administration, 1 Choke Cherry Road, Room 8-1081, Rockville, MD 20857; telephone: (240) 276-2321; E-mail: shelly.hara@samhsa.hhs.gov.

Toian Vaughn, M.S.W.,
SAMHSA Committee Management Officer.

[FR Doc. E8-4892 Filed 3-11-08; 8:45 am]

BILLING CODE 4162-20-P